DEPARTMENT OF ENERGY

Federal Energy Regulatory Commission

[Docket No. ER97-3189-029, et al.]

PPL Electric Utilities Corporation, et al.; Electric Rate and Corporate Regulation Filings

July 19, 2000.

Take notice that the following filings have been made with the Commission:

1. PPL Electric Utilities Corporation

[Docket No. ER97-3189-029]

Take notice that on July 13, 2000, PPL Electric Utilities Corporation (PPL Utilities), formerly known as PP&L, Inc., tendered a compliance filing pursuant to the Commission's order in Allegheny Power Service Company, 90 FERC¶ 61,224 (2000).

PPL Utilities has served a copy of this filing on the parties on the Commission's official service list for this docket.

Comment date: August 3, 2000, in accordance with Standard Paragraph E at the end of this notice.

2. California Independent System Operator Corporation

[Docket No. ER00-2208-002]

Take notice that on July 14, 2000, the California Independent System Operator Corporation (ISO), tendered for filing a change to the ISO Tariff to comply with the Commission's order in California Independent System Operator Corporation, 91 FERC ¶ 61,256 (2000). This change corrects a typographical error contained on a tariff sheet filed in the above-referenced docket. The ISO states that this filing has been served upon all parties in this proceeding.

Comment date: August 4, 2000, in accordance with Standard Paragraph E at the end of this notice.

3. TXU Electric Company

[Docket No. ER00-2256-001]

Take notice that on July 14, 2000, TXU Electric Company (TXU Electric), tendered for filing revised tariff sheets for its revised Tariff for Transmission Service To, From and Over Certain HVDC Interconnections to modify a tariff provision included in TXU Electric's April 20, 2000 filing in Docket No. ER00-2256-000, in compliance with the Commission's June 14, 2000 order in that Docket.

Copies of the filing were served on the persons designated on the official service list compiled by the Secretary in this proceeding.

Comment date: August 4, 2000, in accordance with Standard Paragraph E at the end of this notice.

4. Pinnacle West Capitol Corporation; Arizona Public Service Company; APS Energy Services Corporation, Inc.

[Docket No. ER00-2268-001]

Take notice that on July 14, 2000, the Pinnacle West Capitol Corporation, Arizona Public Service Company and APS Energy Services Corporation, Inc. (Pinnacle West Companies), tendered for filing proposed revisions to Arizona Public Service Company's fuel adjustment clause in compliance with FERC's Order issued June 20, 2000.

A copy of this filing has been served to all parties on the official service list.

Comment date: August 4, 2000, in accordance with Standard Paragraph E at the end of this notice.

5. Entergy Nuclear FitzPatrick, LLC

[Docket No. ER00-2738-001]

Take notice that on July 14, 2000, Entergy Nuclear FitzPatrick, LLC, tendered for filing an amendment to its application for authorization to sell wholesale power at market-based rates pursuant to Section 205 of the Federal Power Act.

Copies of this filing have been served upon all parties listed on the official service list maintained by the Secretary of the Commission for these proceedings.

Comment date: August 4, 2000, in accordance with Standard Paragraph E at the end of this notice.

6. Entergy Nuclear Indian Point 3, LLC

[Docket No. ER00-2740-001]

Take notice that on July 14, 2000, Entergy Nuclear Indian Point 3, LLC tendered for filing an amendment to its application for authorization to sell wholesale power at market-based rates pursuant to Section 205 of the Federal Power Act.

Copies of this filing have been served upon all parties listed on the official service list maintained by the Secretary of the Commission for these proceedings.

Comment date: August 4, 2000, in accordance with Standard Paragraph E at the end of this notice.

7. Allegheny Energy Service Corporation on behalf of Allegheny Energy Supply Company, LLC

[Docket No. ER00-2754-001]

Take notice that on July 13, 2000, Allegheny Energy Service Corporation on behalf of Allegheny Energy Supply Company, LLC (Allegheny Energy Supply), tendered for filing First Revised Service Agreement No. 74 under the Market Rate Tariff to incorporate a Netting Agreement with Louisville Gas and Electric Company/Kentucky Utilities Company into the tariff provisions.

Allegheny Energy Supply requests a waiver of notice requirements to make the Netting Agreement effective as of July 3, 2000 or such other date as ordered by the Commission.

Copies of the filing have been provided to the Public Utilities Commission of Ohio, the Pennsylvania Public Utility Commission, the Maryland Public Service Commission, the Virginia State Corporation Commission, the West Virginia Public Service Commission, and all parties of record.

Comment date: August 4, 2000, in accordance with Standard Paragraph E at the end of this notice.

8. Public Service Company of New Mexico

[Docket No. ER00-3149-000]

Take notice that on July 14, 2000, Public Service Company of New Mexico (PNM), tendered for filing an executed service agreement with Dynegy Marketing & Trade, dated July 12, 2000, for firm point-to-point transmission service under PNM's Open Access Transmission Service Tariff. PNM's filing is available for public inspection at its offices in Albuquerque, New Mexico.

Copies of the filing have been sent to Dynegy Marketing & Trade and to the New Mexico Public Regulation Commission.

Comment date: August 4, 2000, in accordance with Standard Paragraph E at the end of this notice.

9. Potomac Electric and Power Company

[Docket No. ER00-3151-000]

Take notice that on July 14, 2000, Potomac Electric Power Company (PEPCO), tendered for filing an executed netting agreement between PEPCO and NewEnergy, Inc. (the Counterparty).

A copy of the filing was served upon the Counterparty.

Comment date: August 4, 2000, in accordance with Standard Paragraph E at the end of this notice.

10. CMS Marketing Services and Trading Company

[Docket No. ER00-3152-000]

Take notice that on July 14, 2000, CMS Marketing Services and Trading Company (CMS MST), tendered for filing pursuant to its market-based sales tariff, a Service Agreement establishing its public utility affiliate, Consumers Energy Company (CECo), as a customer and requesting cancellation of the Code of Conduct between CMS MST and CECo. CMS MST states that CECo's commitment to exclude all purchases from CMS MST from any rate calculations for its ten wholesale requirements customers and twelve special contracts customers, the retail rate freeze that is in effect until at least December 31, 2003, and the phase in of full retail choice by January 1, 2002 will insulate all of CECo's captive customers from the impact of any purchases from CMS MST.

CMS MST also seeks waiver of any regulations of the Federal Energy Regulatory Commission necessary to permit an effective date of August 1, 2000.

Comment date: August 4, 2000, in accordance with Standard Paragraph E at the end of this notice.

11. Wisconsin Electric Power Company

[Docket No. ER00-3153-000]

Take notice that on July 14, 2000, Wisconsin Electric Power Company (Wisconsin Electric), tendered for filing an unexecuted electric service agreement under its Coordination Sales Tariff (FERC Electric Tariff, First Revised Volume No. 2).

Wisconsin Electric respectfully requests an effective date July 14, 2000.

Copies of the filing have been served on Edison Mission Marketing & Trading, Inc., the Michigan Public Service Commission, and the Public Service Commission of Wisconsin.

Comment date: August 4, 2000, in accordance with Standard Paragraph E at the end of this notice.

12. Potomac Electric Power Company

[Docket No. ER00-3154-000]

Take notice that on July 14, 2000, Potomac Electric Power Company (Pepco), tendered for filing a service agreement pursuant to Pepco FERC Electric Tariff, Original Volume No. 5, entered into between Pepco and El Paso Merchant Energy, L.P.

An effective date of June 1, 2000, for this service agreement with waiver of notice is requested.

Comment date: August 4, 2000, in accordance with Standard Paragraph E at the end of this notice.

13. Southwestern Public Service Company

[Docket No. ER00-3155-000]

Take notice that on July 14, 2000, New Century Services, Inc., on behalf of Southwestern Public Service Company (Southwestern), tendered for filing an executed umbrella service agreement under Southwestern's market-based sales tariff with Sempra Energy Trading Corp. (Sempra). This umbrella service agreement provides for Southwestern's sale and Sempra's purchase of capacity and energy at market-based rates pursuant to Southwestern's market-based sales tariff.

Southwestern requests that this service agreement become effective on June 14, 2000.

Comment date: August 4, 2000, in accordance with Standard Paragraph E at the end of this notice.

14. The Montana Power Company

[Docket No. ER00-3156-000]

Take notice that on July 14, 2000, The Montana Power Company (Montana) tendered for filing with the Federal Energy Regulatory Commission pursuant to 18 CFR 35.13 executed Firm and Non-Firm Point-To-Point Transmission Service Agreements with the Public Service Company of Colorado under Montana's FERC Electric Tariff, Fourth Revised Volume No. 5 (Open Access Transmission Tariff).

A copy of the filing was served upon the Public Service Company of Colorado.

Comment date: August 4, 2000, in accordance with Standard Paragraph E at the end of this notice.

15. Commonwealth Edison Company

[Docket No. ER00-3157-000]

Take notice that on July 14, 2000, Commonwealth Edison Company (ComEd), tendered for filing a Short-Term Firm Transmission Service Agreement with Cinergy Services, Inc., (CPMT) under the terms of ComEd's Open Access Transmission Tariff (OATT).

ComEd requests an effective date of June 15, 2000, for the Agreement with CPMT, and accordingly, seeks waiver of the Commission's notice requirements.

Comment date: August 4, 2000, in accordance with Standard Paragraph E at the end of this notice.

16. Southern Indiana Gas and Electric Company

[Docket No. ER00-3158-000]

Take notice that on July 14, 2000, Southern Indiana Gas and Electric Company (SIGECO), tendered for filing service agreements for firm and non-firm transmission service under Part II of its Transmission Services Tariff with Cargill-Alliant, LLC, The Legacy Energy Group, LLC, and Amerada Hess Corporation, respectively.

Copies of the filing were served upon each of the parties to the service agreement.

Comment date: August 4, 2000, in accordance with Standard Paragraph E at the end of this notice.

17. Indianapolis Power & Light Company

[Docket No. ER00-3159-000]

Take notice that on July 14, 2000, Indianapolis Power & Light Company (IPL), tendered for filing service agreements executed under IPL's Open Access Transmission Tariff and an index of customers.

Comment date: August 4, 2000, in accordance with Standard Paragraph E at the end of this notice.

18. NRG Energy Center Dover LLC, NEO Toledo-Gen LLC, NEO Freehold-Gen LLC and NEO Chester-Gen LLC

[Docket No. ER00-3160-000]

Take notice that on July 14, 2000, NRG Energy Center Dover LLC, NEO Toledo-Gen LLC, NEO Freehold-Gen LLC, and NEO Chester-Gen LLC (Sellers), limited liability companies organized under the laws of the State of Delaware, petitioned the Commission for an order: (1) Accepting Sellers' proposed FERC Electric Tariffs (Market-Based Rate Tariffs), (2) granting waiver of certain requirements under Subparts B and C of Part 35 of the Regulations, (3) granting the blanket approvals normally accorded sellers permitted to sell at market-based rates, and (4) granting waiver of the 60-day notice period. NRG Energy Center Dover LLC also requested acceptance of two long-term power sales agreements. Sellers are indirect subsidiaries of Northern States Power Company.

Comment date: August 4, 2000, in accordance with Standard Paragraph E at the end of this notice.

19. TXU Electric Company and TXU SESCO Company

[Docket No. ER00-2257-001]

Take notice that on July 14, 2000, TXU Electric Company and TXU SESCO Company (collectively TXU), tendered for filing revised tariff sheets for their revised Tariff for Transmission Service for Tex-La Electric Cooperative of Texas, Inc., to modify a tariff provision included in TXU's April 20, 2000 filing in Docket No. ER00-2257-000, in compliance with the Commission's June 14, 2000 order in that Docket.

Copies of the filing were served on the persons designated on the official service list compiled by the Secretary in this proceeding.

Comment date: August 4, 2000, in accordance with Standard Paragraph E at the end of this notice.

20. Orion Power MidWest, L.P.

[Docket No. ER00-2585-001]

Take notice that on July 13, 2000, Orion Power MidWest, L.P. (Orion Power MidWest), tendered for filing with the Federal Energy Regulatory Commission a revised long-term Energy Agency and Marketing Agreement with Duquesne Light Company, designated as Original Service Agreement No. 4 for the sale of energy under Orion Power MidWest's market-based rate tariff, FERC Electric Rate Tariff, Volume No. 1.

Comment date: August 3, 2000, in accordance with Standard Paragraph E at the end of this notice.

21. Alcoa Power Generating Inc.

[Docket No. ER00-2396-001]

Take notice that on July 14, 2000, Alcoa Power Generating Inc. (APGI), tendered for filing APGI's Procedure for Implementation of Standards of Conduct, APGI's Standards of Conduct, and an organizational chart depicting APGI's separation of transmission function employees from wholesale merchant function employees. APGI requested that the Commission accept its proposed Standards of Conduct for filing. APGI also informed the Commission that its Standards of Conduct were currently implemented and that its Open Access Same-Time Information System would become functional on March 15, 2000.

Comment date: August 4, 2000, in accordance with Standard Paragraph E at the end of this notice.

22. Avista Corporation

[Docket No. ER00-3019-000]

Take notice that on July 14, 2000, Puget Sound Energy, Inc. (Puget Sound) tendered for filing a Certificate of Concurrence to the Mutual Netting Agreement between Puget Sound and Avista Corporation (Avista) filed by Avista on June 30, 2000.

Puget Sound states that a copy of the filing was served upon Avista.

Comment date: August 4, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-18875 Filed 7-25-00; 8:45 am]

BILLING CODE 6717-01-M